DEPARTMENT OF TRANSPORTATION

Federal Aviation Administration

14 CFR Part 97

[Docket No. 30947; Amdt. No. 3581]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective March 25, 2014. The compliance date for each SIAP, associated Takeoff Minimums, and ODP is specified in the amendatory provisions.

The incorporation by reference of certain publications listed in the regulations is approved by the Director of the Federal Register as of March 25, 2014.

ADDRESSES: Availability of matters incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420), Flight Technologies and Programs Divisions, Flight Standards Service, Federal Aviation Administration, Mike Monroney Aeronautical Center, 6500 South MacArthur Blvd. Oklahoma City, OK. 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the, associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26,1979) ; and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC on February 28, 2014.
John Duncan,
Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

* * * Effective 3 APRIL 2014

Aliceville, AL, George Downer, RNAV (GPS) RWY 6, Orig

Aliceville, AL, George Downer, RNAV (GPS) RWY 24, Orig

Aliceville, AL, George Downer, Takeoff Minimums and Obstacle DP, Orig

Oakland, CA, Metropolitan Oakland Intl, RNAV (GPS) Y RWY 30, Amdt 3

Miami, FL, Opa-Locka Executive, ILS OR LOC RWY 27R, Amdt 1A

Miami, FL, Opa-Locka Executive, RNAV (GPS) RWY 27R, Orig-A

Pensacola, FL, Pensacola International, ILS OR LOC RWY 17, Amdt 14A

Pensacola, FL, Pensacola International, NDB RWY 35, Amdt 17A

Pensacola, FL, Pensacola International, RNAV (GPS) RWY 8, Amdt 2A

Pensacola, FL, Pensacola International, RNAV (GPS) RWY 17, Amdt 2B

Pensacola, FL, Pensacola International, RNAV (GPS) RWY 26, Amdt 2A

Pensacola, FL, Pensacola International, RNAV (GPS) RWY 35, Amdt 2A

Pensacola, FL, Pensacola International, VOR RWY 8, Amdt 4A

St Petersburg-Clearwater, FL, St Pete-Clearwater Intl, ILS OR LOC RWY 18L, ILS RWY 18L (SA CAT I), ILS RWY 18L (CAT II), Amdt 22A

St Petersburg-Clearwater, FL, St Pete-Clearwater Intl, ILS OR LOC RWY 36R, Amdt 3A

St Petersburg-Clearwater, FL, St Pete-Clearwater Intl, RNAV (GPS) RWY 18L, Amdt 1B

St Petersburg-Clearwater, FL, St Pete-Clearwater Intl, RNAV (GPS) RWY 36R, Amdt 2B

St Petersburg-Clearwater, FL, St Pete-Clearwater Intl, RNAV (GPS)-A, Amdt 2A

St Petersburg-Clearwater, FL, St Pete-Clearwater Intl, VOR RWY 4, Amdt 1A

St Petersburg-Clearwater, FL, St Pete-Clearwater Intl, VOR RWY 36R, Amdt 1B

St Petersburg-Clearwater, FL, St Pete-Clearwater Intl, VOR/DME RWY 18L, Amdt 1B

St Petersburg-Clearwater, FL, St Pete-Clearwater Intl, VOR/DME-B, Orig-A

Vero Beach, FL, Vero Beach Muni, RNAV (GPS) RWY 4, Amdt 1A

Vero Beach, FL, Vero Beach Muni, RNAV (GPS) RWY 12R, Amdt 2A

Vero Beach, FL, Vero Beach Muni, RNAV (GPS) RWY 22, Amdt 1A

Vero Beach, FL, Vero Beach Muni, RNAV (GPS) RWY 30L, Amdt 2A

Vero Beach, FL, Vero Beach Muni, Takeoff Minimums and Obstacle DP, Orig-A

Vero Beach, FL, Vero Beach Muni, VOR RWY 12R, Amdt 14B

Vero Beach, FL, Vero Beach Muni, VOR/DME RWY 30L, Amdt 4A

Mount Carmel, IL, Mount Carmel Muni, Takeoff Minimums and Obstacle DP, Amdt 1

Sturgis, KY, Sturgis Muni, RNAV (GPS) RWY 1, Amdt 1

Sturgis, KY, Sturgis Muni, RNAV (GPS) RWY 19, Amdt 1

Sturgis, KY, Sturgis Muni, Takeoff Minimums and Obstacle DP, Amdt 4

Mackinac Island, MI, Mackinac Island, RNAV (GPS) RWY 8, Amdt 1

Mackinac Island, MI, Mackinac Island, RNAV (GPS) RWY 26, Amdt 1

Traverse City, MI, Cherry Capital, RNAV (GPS) RWY 10, Amdt 1

Traverse City, MI, Cherry Capital, RNAV (GPS) RWY 28, Orig

Troy, MI, Oakland/Troy, RNAV (GPS) RWY 9, Amdt 2

Minneapolis, MN, Flying Cloud, RNAV (GPS) RWY 10L, Amdt 1

Minneapolis, MN, Flying Cloud, RNAV (GPS) RWY 28R, Amdt 2A

Clinton, MO, Clinton Rgnl, NDB RWY 4, Amdt 8

Clinton, MO, Clinton Rgnl, NDB RWY 22, Amdt 9

Clinton, MO, Clinton Rgnl, RNAV (GPS) RWY 4, Amdt 1

Clinton, MO, Clinton Rgnl, RNAV (GPS) RWY 18, Orig

Clinton, MO, Clinton Rgnl, RNAV (GPS) RWY 22, Amdt 1

Clinton, MO, Clinton Rgnl, RNAV (GPS) RWY 36, Orig

Clinton, MO, Clinton Rgnl, Takeoff Minimums and Obstacle DP, Amdt 1

Cleveland, MS, Cleveland Muni, RNAV (GPS) RWY 18, Amdt 1

Cleveland, MS, Cleveland Muni, RNAV (GPS) RWY 36, Orig-A

Cleveland, MS, Cleveland Muni, Takeoff Minimums and Obstacle DP, Amdt 2

Cleveland, MS, Cleveland Muni, VOR-A, Amdt 9

Pinehurst/Southern Pines, NC, Moore County, ILS Y OR LOC/DME Y RWY 5, Orig

Pinehurst/Southern Pines, NC, Moore County, ILS Z OR LOC/DME Z RWY 5, Amdt 2

Pinehurst/Southern Pines, NC, Moore County, RNAV (GPS) RWY 5, Amdt 1

Pinehurst/Southern Pines, NC, Moore County, RNAV (GPS) RWY 23, Amdt 2

Las Vegas, NV, Mc Carran Intl, ILS OR LOC/DME RWY 1L, Amdt 1

Sidney, NY, Sidney Muni, RNAV (GPS) RWY 25, Amdt 1

Stigler, OK, Stigler Rgnl, RNAV (GPS) RWY 35, Amdt 1

Latrobe, PA, Arnold Palmer Rgnl, NDB RWY 23, Amdt 13C, CANCELED

York, PA, York, NDB RWY 17, Amdt 7A, CANCELED

Rock Hill, SC, Rock Hill/York CO/Bryant Field, ILS Y OR LOC Y RWY 2, Orig

Rock Hill, SC, Rock Hill/York CO/Bryant Field, ILS Z OR LOC Z RWY 2, Amdt 2

Rock Hill, SC, Rock Hill/York CO/Bryant Field, RNAV (GPS) RWY 2, Amdt 2

Lawrenceburg, TN, Lawrenceburg-Lawrence County, GPS RWY 17, Orig-A, CANCELED

Oneida, TN, Scott Muni, SDF RWY 23, AMDT 5, CANCELED

El Paso, TX, El Paso Intl, ILS OR LOC RWY 22, Amdt 32C

El Paso, TX, El Paso Intl, LOC/DME RWY 4, Amdt 3A

El Paso, TX, El Paso Intl, RADAR-1, Amdt 15A

El Paso, TX, El Paso Intl, RNAV (GPS) RWY 26R, Orig-A

El Paso, TX, El Paso Intl, RNAV (GPS) X RWY 4, Orig-B

El Paso, TX, El Paso Intl, RNAV (GPS) Y RWY 22, Orig-D

El Paso, TX, El Paso Intl, RNAV (GPS) Y RWY 26L, Amdt 1A

El Paso, TX, El Paso Intl, RNAV (RNP) Y RWY 4, Orig-C

El Paso, TX, El Paso Intl, RNAV (RNP) Z RWY 4, Orig-B

El Paso, TX, El Paso Intl, RNAV (RNP) Z RWY 22, Amdt 1

El Paso, TX, El Paso Intl, RNAV (RNP) Z RWY 26L, Amdt 1

Presidio, TX, Presidio Lely Intl, RNAV (GPS)-A, Orig

Presidio, TX, Presidio Lely Intl, Takeoff Minimums and Obstacle DP, Orig

Blackstone, VA, Allen C Perkinson Blackstone AAF, RNAV (GPS) RWY 4, Amdt 1

Blackstone, VA, Allen C Perkinson Blackstone AAF, RNAV (GPS) RWY 22, Amdt 1

Blackstone, VA, Allen C Perkinson Blackstone AAF, Takeoff Minimums and Obstacle DP, Amdt 3

Emporia, VA, Emporia-Greensville Rgnl, LOC RWY 34, Amdt 1A

Emporia, VA, Emporia-Greensville Rgnl, RNAV (GPS) RWY 16, Amdt 1A

Emporia, VA, Emporia-Greensville Rgnl, RNAV (GPS) RWY 34, Amdt 1A

Emporia, VA, Emporia-Greensville Rgnl, Takeoff Minimums and Obstacle DP, Orig-A

Olympia, WA, Olympia Rgnl, ILS OR LOC RWY 17, Amdt 12

Cable, WI, Cable Union, Takeoff Minimums and Obstacle DP, Amdt 5

Superior, WI, Richard I Bong, Takeoff Minimums and Obstacle DP, Amdt 6

[FR Doc. 2014-06269 Filed 3-24-14; 8:45 am]

BILLING CODE 4910-13-P